DEPARTMENT OF COMMERCE

National Oceanic and Atmospheric Administration

[RTID 0648-XB992]

Takes of Marine Mammals Incidental to Specified Activities; Taking Marine Mammals Incidental to Marine Site Characterization Surveys Off New Jersey and New York for Atlantic Shores Offshore Wind, LLC; Correction

AGENCY: National Marine Fisheries Service (NMFS), National Oceanic and Atmospheric Administration (NOAA), Commerce.

ACTION: Notice; issuance of an incidental harassment authorization; correction.

SUMMARY: On April 22, 2022, a notice was published in the Federal Register announcing the issuance of an incidental harassment authorization (IHA) for take of marine mammals incidental to marine site characterization surveys off New Jersey. That document inadvertently omitted some text in NMFS' response to public comment 13. This document only corrects this error; all other information is unchanged.

FOR FURTHER INFORMATION CONTACT: Kelsey Potlock, Office of Protected Resources, NMFS, (301) 427-8421.

SUPPLEMENTARY INFORMATION:

Background

NMFS published a notice in the Federal Register on April 22, 2022 (87 FR 24103) announcing that an IHA had been issued to Atlantic Shores, LLC, authorizing the take of marine mammals incidental to marine site characterization surveys off of New Jersey, effective from April 20, 2022 through April 19, 2023. NMFS refers the reader to the April 22, 2022, Federal Register notice (87 FR 24103) for background information concerning the IHA.

Correction

On page 24108 in the section for NMFS' response to Comment 13 is corrected to read as follows:

Comment 13: Oceana and LBI recommended increasing the Exclusion Zone to either 1,000 m or 2,500 m, respectively, for NARWs.

Response: NMFS notes that the 500 m Exclusion Zone for NARWs exceeds the modeled distance to the largest 160 dB Level B harassment isopleth distance (141 m during sparker use) by a substantial margin. Commenters do not provide a compelling rationale for why the Exclusion Zone should be even larger. Given that these surveys are relatively low impact and that, regardless, NMFS has prescribed a NARW Exclusion Zone that is significantly larger (500 m) than the conservatively estimated largest harassment zone (141 m), NMFS has determined that the Exclusion Zone is appropriate. Further, Level A harassment is not expected to result, even in the absence of mitigation, given the characteristics of the sources planned for use. As described in the Mitigation section, NMFS has determined that the prescribed mitigation requirements are sufficient to effect the least practicable adverse impact on all affected species or stocks

Dated: April 29, 2022.
Kimberly Damon-Randall,
Director, Office of Protected Resources, National Marine Fisheries Service.

[FR Doc. 2022-09661 Filed 5-4-22; 8:45 am]

BILLING CODE 3510-22-P